DEPARTMENT OF HOUSING AND URBAN DEVELOPMENT

[Docket No. FR-7062-N-05]

Privacy Act of 1974; System of Records

AGENCY: Privacy Office, HUD.

ACTION: Notice of a new system of records.

SUMMARY: Pursuant to the provisions of the Privacy Act of 1974, as amended, the Department of the Housing and Urban Development (HUD), Office of Policy Development & Research (PD&R) is issuing a public notice of its intent to establish a Privacy Act system of records titled the Housing Choice Voucher (HCV) Mobility Demonstration Evaluation data files. The purpose of the HCV Mobility Demonstration Evaluation data files system is to serve as a repository to store, maintain, and statistically analyze all data collected through the evaluation of the HCV Mobility Demonstration.

DATES: This notice action shall be effective immediately, which will become effective June 27, 2022.

Comments will be accepted on or before June 27, 2022. This proposed action will be effective on the date following the end of the comment period unless comments are received which result in a contrary determination

ADDRESSES: You may submit comments, identified by docket number and title, by any of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street, SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: Ladonne White; 451 Seventh Street SW, Room 10139; Washington, DC 20410-0001; telephone number 202-708-3054 (this is not a toll-free number). Individuals who are hearing- or speech-impaired may access this telephone number via TTY by calling the Federal Relay Service at 800-877-8339 (this is a toll-free number).

SUPPLEMENTARY INFORMATION: The HCV Mobility Demonstration Evaluation Data Files will be a data system established to store the information that is needed to evaluate the impact of the Housing Choice Voucher (HCV) Mobility Demonstration. The evaluation will assess the implementation and impact of the pairing of mobility services with HUD housing assistance on a broad range of participant outcomes for both adults and children. In addition to assessing the impact of the program on participating households, the evaluation will also seek to understand the perspective of the public housing agencies that implement the program, the perspective of the mobility service providers that offer mobility services to participating households, and the perspective of landlords in the communities where the demonstration is implemented. This System of Records will contain all information that will be analyzed the evaluate the impact of the Housing Choice Voucher (HCV) Mobility Demonstration.

SYSTEM NAME AND NUMBER:

Housing Choice Voucher (HCV) Mobility Demonstration Evaluation Data Files, PD&R/RRE 09.

SECURITY CLASSIFICATION:

Unclassified.

SYSTEM LOCATION:

HCV Mobility Demonstration Evaluation Data Files are maintained at the following locations: Abt Associates Inc., 10 Fawcett Street, Cambridge, MA; Abt Associates Inc., 6130 Executive Blvd., Rockville, MD 20852; the AT&T Datacenter, 15 Enterprise Ave, Secaucus, NJ 07094; and the U.S. Department of Housing and Urban Development, 451 7th Street SW, Washington, DC 20410-0001.

SYSTEM MANAGER(S):

Carol Star, Director, Program Evaluation Division, Office of Policy Development and Research, Department of Housing and Urban Development, 451 7th Street SW, Washington, DC 20410-0001, Telephone Number (202) 402-6139.

AUTHORITY FOR MAINTENANCE OF THE SYSTEM:

Section 502 of the Housing and Urban Development Act of 1970 (Pub. L. 91-609) (12 U.S.C. 1701z-1; 1701z-2(d) and (g)).

PURPOSES OF THE SYSTEM:

The purpose of the HCV Mobility Demonstration Evaluation Data Files will be to store the information that is needed to evaluate the impact of the Housing Choice Voucher (HCV) Mobility Demonstration. The information to be maintained in this records system is necessary to identify and track the participating families over the course of the study and determine the effectiveness of the interventions. The data in this system will be analyzed using statistical methods and any results shared with the public or published in anyway will be reported only in the aggregate. Resulting reports will not disclose or identify any individuals or sensitive personal information.

CATEGORIES OF INDIVIDUALS COVERED BY THE SYSTEM:

Families enrolled in the HCV Mobility Demonstration, staff at public housing agencies (PHAs) that are administering the HCV Mobility Demonstration, providers of mobility services that are partnering with PHAs to administer the program, and landlords.

CATEGORIES OF RECORDS IN THE SYSTEM:

Head of household's full name, date of birth, social security number, alien registration number, unique study ID, home address, household composition, basic demographics of household members (educational attainment, relationship to head of household, employment status of adults, chronic health conditions of children etc.), housing and neighborhood status, perceptions of opportunity areas, financial well-being, and contact information.

Responses to PHA staff qualitative interviews: Include respondent's full name, title or position, email address, and phone number.

Responses to mobility service providers qualitative interviews: Include respondent's full name, title or position, email address, and phone number.

Responses to landlord qualitative interviews: Include respondent's full name, title or position, email address, phone number, property locations, and audio recording.

Data from the Mobility Services Delivery Management Information Systems: Include service recipients full name, services provided, duration and intensity of services.

Administrative data: Include demographic data on tenants, including social security number, date of birth, race, sex, disability status, household members, home address, contact information, and Housing Choice Voucher program participation information for households (types and dates of program actions).

RECORD SOURCE CATEGORIES:

HCV Mobility Demonstration program participants, Landlords, PHA staff, Mobility service providers, Mobility Services Delivery Management Information Systems, HUD PIH Inventory Management System/PIH Information Center.

ROUTINE USES OF RECORDS MAINTAINED IN THE SYSTEM, INCLUDING CATEGORIES OF USERS AND PURPOSES OF SUCH USES:

Besides those disclosures generally permitted under 5 U.S.C. 552a(b) of the Privacy Act, HUD may disclose information in this system of records:

1. To a congressional office from the record of an individual, in response to an inquiry from the congressional office made at the request of that individual.

2. To contractors, grantees, experts, consultants, Federal agencies, and non-Federal entities, including, but not limited to, State and local governments and other research institutions or their parties, and entities and their agents with whom HUD has a contract, service agreement, grant, or cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

3. To contractors, grantees, experts, consultants and their agents, or others performing or working under a contract, service, grant, or cooperative agreement with HUD, when necessary to accomplish an agency function related to a system of records. Disclosure requirements are limited to only those data elements considered relevant to accomplishing an agency function.

4.(a) To appropriate agencies, entities, and persons when: (1) HUD suspects or has confirmed there has breached the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(b) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

5. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

6. To a court, magistrate, administrative tribunal, or arbitrator in the course of presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

7. To appropriate Federal, State, local, tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

8. To contractors, grantees, experts, consultants, Federal agencies, and non-Federal entities, including, but not limited to, State and local governments and other research institutions or employees or contractors, and other entities and their agents for the conduct of HUD-approved ancillary studies relevant to the evaluation of the HCV Mobility Demonstration. Records under this routine use may not be used in whole or in part to make decisions that affect the rights, benefits, or privileges of specific individuals. Research reports resulting from any such ancillary studies would be required to report all results in the aggregate and to ensure that no individual was identifiable.

POLICIES AND PRACTICES FOR STORAGE OF RECORDS:

Electronic and paper.

POLICIES AND PRACTICES FOR RETRIEVAL OF RECORDS:

Unique study ID, name, home address, telephone number, and personal email address.

POLICIES AND PRACTICIES FOR RETENTION AND DISPOSAL OF RECORDS:

Records (Electronic data) files are maintained in accordance with HUD Records Disposition Schedule 67.9.b and 67.9.f. The records will be retained as necessary. As such, when projects are satisfactorily closed, and records are no longer needed for administrative purposes, the records will be destroyed when the destruction date is reached. Manual records are destroyed by shredding or burn; electronic records are destroyed in accordance with HUD's IT Security Handbook 2400.25, Section 4.7.6.

ADMINISTRATIVE, TECHNICAL, AND PHYSICAL SAFEGUARDS:

For Electronic Records: All personal data will be maintained on a secure workstation or server that is protected by a firewall and complex passwords in a directory that can only be accessed by the network administrators and the analysts actively working on the data; access rights to the data are granted to limited researchers on a need-to-know basis, and the level of access provided to each researcher is based on the minimal level required that individual to fulfill his research role; all systems used to process or store data have Federal security controls applied to them; the data will be backed up on a regular basis to safeguard against system failures or disasters; and, unencrypted data will never be stored on a laptop or on a movable media such as CDs, diskettes, or USB flash drives.

For Paper Records: The site interviewers will securely store any hard copy forms with personal identifiers until they are shipped to the evaluation contractor via commercial mail services; all hard copy forms with personal identifying data (the participant agreement/informed consent form) will be stored securely in a locked cabinet that can only be accessed by authorized individuals working on the data. The locked cabinet will be stored in a locked office in a limited-access building. Additionally, permissions will be defined for each authorized user based on the user's role on the project. For example, the local site interviewer will be able to review data for study participants only for his or her own specific site. Study data will be aggregated or de-identified at the highest level possible for each required, authorized use.

RECORD ACCESS PROCEDURES:

Individuals seeking notification of and access to their records in this system of records may submit a request in writing to the Department of Housing and Urban Development, Attn: FOIA Program Office, 451 7th Street SW, Suite 10139, Washington, DC 20410-0001. or by emailing foia@hud.gov. Individuals must furnish the following information for their records to be located:

1. Full name.

2. Signature.

3. The reason why the individual believes this system contains information about him/her.

4. The address to which the information should be sent.

CONTESTING RECORD PROCEDURES:

Same as the Notification Procedures below.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

None.

HISTORY:

N/A.

LaDonne L. White,
Departmental Privacy Officer.

[FR Doc. 2022-11452 Filed 5-26-22; 8:45 am]

BILLING CODE P